DEPARTMENT OF THE INTERIOR

National Park Service

[2253-665]

Notice of Intent To Repatriate Cultural Items: California Department of Parks and Recreation, Sacramento, CA

AGENCY: National Park Service, Interior.

ACTION: Notice

SUMMARY: The California Department of Parks and Recreation, in consultation with the appropriate tribes, has determined that the cultural items meet the definition of unassociated funerary objects and repatriation to the Indian tribes stated below may occur if no additional claimants come forward. Representatives of any Indian tribe that believes itself to be culturally affiliated with the cultural item may contact the California Department of Parks and Recreation.

DATES: Representatives of any Indian tribe that believes it has a cultural affiliation with the cultural item should contact the California Department of Parks and Recreation at the address below by May 2, 2012.

ADDRESSES: Rebecca Carruthers, NAGPRA Coordinator, California Department of Parks and Recreation, 1416 9th Street, Room 902, Sacramento, CA 95814, telephone (916) 653-8893.

SUPPLEMENTARY INFORMATION: Notice is here given in accordance with the Native American Graves Protection and Repatriation Act (NAGPRA), 25 U.S.C. 3005, of the intent to repatriate cultural items under the control of the California Department of Parks and Recreation that meet the definition of unassociated funerary objects under 25 U.S.C. 3001. The unassociated funerary objects were removed from ten sites located in northeastern San Diego County, CA.

This notice is published as part of the National Park Service's administrative responsibilities under NAGPRA, 25 U.S.C. 3003(d)(3). The determinations in this notice are the sole responsibility of the museum, institution or Federal agency that has control of the Native American cultural item. The National Park Service is not responsible for the determinations in this notice.

History and Description of the Cultural Item

The unassociated funerary objects were removed from ten sites located in northeastern San Diego County, CA. The geographical location of the ten sites indicates the unassociated funerary objects were recovered within the historically documented territory of the Cahuilla. The traditional aboriginal territory of the Cahuilla, as defined by anthropologist Lowell John Bean, encompasses a geographically diverse area of mountains, valleys and low desert zones. The southernmost boundary approximately followed a line from just below Borrego Springs to the north end of the Salton Basin and the Chocolate Mountains. The eastern boundary ran along the summit of the San Bernardino Mountains. The northern boundary stood within the San Jacinto Plain near Riverside, while the base of Palomar Mountain formed the western boundary. According to Bean and archeologist William D. Strong, the northern end of Anza-Borrego Desert State Park lies within the traditional territory of the Cahuilla and includes Borrego Palm Canyon, Coyote Canyon, Clark Valley, the Santa Rosa Mountains, Jackass Flat, Rockhouse Canyon, and Horse Canyon.

In 1955, Ben McCown collected a ceramic pipe bowl fragment from site CA-SDI-1465 (Hidden Springs) in the Borrego Palm Canyon and Jackass Flat areas of Anza Borrego Desert State Park, a large village site that had been occupied for a considerable period of time prior to and during the historic period and known to contain cremated human remains. The pipe bowl fragment is an unassociated funerary object based on the proximity of human cremation burials in the area, the ceremonial/personal nature of the object, and the burned exterior which is consistent with exposure to heat during cremation.

In 1955, park visitor Gary Masters collected a ceramic pipe from site VC-1 in the Borrego Palm Canyon area of Anza Borrego Desert State Park, an area known to contain large village sites with cremation burials. The pipe is an unassociated funerary object based on the proximity of human cremation burials in the area and the ceremonial/personal nature of the object. Although the object does not appear to be heavily burned, it is more likely than not to have come from a funerary context.

At an unknown date, Paul Jorgenson collected a small pinch bowl from site CA-SDI-224 (Middle Willows) in the Borrego Palm Canyon area of Anza Borrego Desert State Park, an area known to contain large village sites with cremation burials. The bowl is an unassociated funerary object based on the proximity of human cremation burials in the area and the ceremonial/personal nature of the object. Although the object does not appear to be heavily burned, it is more likely than not to have come from a funerary context.

Sometime in the 1970s, San Diego State University students and Professor Paul Ezell collected three pipe fragments, 75 burnt Olivella shell beads and a burnt glass bead from site CA-SDI-343 (Lower Willows) in the Borrego Palm Canyon area of Anza Borrego Desert State Park, a large village complex at Santa Caterina Spring known to contain cremation burials. The objects are unassociated funerary objects based on the proximity of human cremation burials in the area, the ceremonial/personal nature of the objects, and the burned exterior which is consistent with exposure to heat during cremation.

Sometime in the 1970s, archeologist William Seidel collected one small burnt clay ball from site CA-SDI-2328 (Lower Willows) in the Borrego Palm Canyon area of Anza Borrego Desert State Park, a large village complex at Santa Caterina Spring known to contain cremation burials. The object is an unassociated funerary based on the proximity of human cremation burials in the area, ceremonial/personal nature of the object, and the burned exterior which is consistent with exposure to heat during cremation.

Sometime in the 1970s, archeologist William Seidel collected one pipe bowl fragment from site CA-SDI-2336 in the Collins Valley area of Anza Borrego Desert State Park, a site known to have cremations and burials. The object is an unassociated funerary object based on the proximity of human cremation burials in the area, ceremonial/personal nature of the object, and the burned exterior which is consistent with exposure to heat during cremation.

Sometime in the 1970s, archeologist William Seidel collected one pipe bowl fragment from site CA-SDI-2663 in the Borrego Sink area of Borrego Springs, CA, an area known to be a gathering place for ceremonial and social occasions and known to contain numerous cremation burials. The object is an unassociated funerary object based on the proximity of human cremation burials in the area, the ceremonial/personal nature of the object, and the burned exterior which is consistent with exposure to heat during cremation.

In 1969, an anonymous park visitor collected a quartz crystal, a Haliotis shell pendant fragment, and two burnt Olivella shell beads from an unidentified site above Lower Willows (most likely site CA-SDI-331 or site CA-SDI-343), in the Borrego Palm Canyon area of Anza Borrego Desert State Park, an area of known to contain large village sites with cremation burials. The objects are unassociated funerary objects based on the proximity of human cremation burials in the area, the ceremonial/personal nature of the objects, and the burned exterior which is consistent with exposure to heat during cremation.

In 1967, an anonymous park visitor collected a pipe bowl fragment from an unidentified site in the Coyote Canyon area of Anza Borrego Desert State Park, an area known to contain large village sites with cremation burials. The pipe fragment is an unassociated funerary object based on the proximity of human cremation burials in the area and the ceremonial/personal nature of the object. Although the object does not appear to be heavily burned, it is more likely than not to have come from a funerary context.

Sometime in the 1970s, archaeologist William Seidel collected a pipe fragment from an unidentified site located south of the elementary school in Borrego Springs, CA, an area known to contain a number of cremation burials and a gathering place for Cahuilla people for ceremonial and social occasions. The pipe is an unassociated funerary object based on the proximity of human cremation burials in the area and the ceremonial/personal nature of the object. Although the object does not appear to be heavily burned, it is more likely than not to have come from a funerary context.

Determinations Made by the California Department of Parks and Recreation

Officials of the California Department of Parks and Recreation have determined that:

• Pursuant to 25 U.S.C. 3001(3)(B), the 91 cultural items described above are reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary objects and the Agua Caliente Band of Cahuilla Indians of the Agua Caliente Indian Reservation, California; Augustine Band of Cahuilla Indians, California (formerly the Augustine Band of Cahuilla Mission Indians of the Augustine Reservation); Cabazon Band of Mission Indians, California; Cahuilla Band of Mission Indians of the Cahuilla Reservation, California; Los Coyotes Band of Cahuilla and Cupeno Indians, California (formerly the Los Coyotes Band of Cahuilla & Cupeno Indians of the Los Coyotes Reservation); Morongo Band of Mission Indians, California (formerly the Morongo Band of Cahuilla Mission Indians of the Morongo Reservation); Ramona Band of Cahuilla, California (formerly the Ramona Band or Village of Cahuilla Mission Indians of California); Santa Rosa Band of Cahuilla Indians, California (formerly the Santa Rosa Band of Cahuilla Mission Indians of the Santa Rosa Reservation); and Torres-Martinez Desert Cahuilla Indians, California (formerly the Torres-Martinez Band of Cahuilla Mission Indians of California) (hereafter referred to as “The Tribes”).

Additional Requestors and Disposition

Representatives of any Indian tribe that believes itself to be culturally affiliated with the unassociated funerary object should contact Rebecca Carruthers, NAGPRA Coordinator, California Department of Parks and Recreation, 1416 9th Street, Room 902, Sacramento CA 95814, telephone (916) 653-8893, before May 2, 2012. Repatriation of the unassociated funerary objects to The Tribes may proceed after that date if no additional claimants come forward.

The California Department of Parks and Recreation is responsible for notifying The Tribes that this notice has been published.

Dated: March 28, 2012.
Sherry Hutt,
Manager, National NAGPRA Program.

[FR Doc. 2012-7889 Filed 3-30-12; 8:45 am]

BILLING CODE 4312-50-P